DEPARTMENT OF HEALTH AND HUMAN SERVICES

Centers for Medicare & Medicaid Services

[Document Identifier: CMS-10452 and CMS-10453]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: CMS Enterprise Identity Management System; Use: The Enterprise Identity Management (EIDM) solution will provide an enterprise-wide solution that will also support CMS' senior management goal to improve the Provider and Health Information Exchange experience by providing an enterprise-wide set of credentials and single sign-on capability for multiple CMS applications. In order to prove the identity of an individual requesting electronic access to CMS protected information or services, CMS will collect a core set of attributes about that individual.

These core attributes will be used to:

1. Provide the identity proofing service sufficient data to establish that the individual's identity is provable to a NIST assurance level;

2. Store the approval information returned by the identity proofing service;

3. Provide CMS with additional data for multi-factor identification (personal questions and answers);

4. Provide the user a single sign-on, federated CMS EIDM ID and Password;

5. Authenticate the user; and

6. Authorize the user for application access.

The information collected will be gathered and used solely by CMS and approved contractor(s) and state health insurance exchanges. Information confidentiality will conform to HIPAA and FISMA requirements. Respondents may also access CMS Terms of Service and CMS Privacy Statement on the Web. Form Numbers: CMS-10452 (OCN: 0938-New); Frequency: Reporting—On occasion; Affected Public: Individuals and households; Number of Annual Respondents: 26 million; Total Annual Responses: 26,000,000; Total Annual Hours: 8,666,667. (For policy questions regarding this collection contact Robert Burger at 410-786-2125. For all other issues call 410-786-1326.)

2. Type of Information Collection Request: New collection; Title of Information Collection: The Medicare Advantage and Prescription Drug Program: Part C Explanation of Benefits CFR 422.111(b)(12); Use: CMS is requesting OMB approval for the information collection requirements referenced in the April 15, 2011 final rule revising the Medicare Advantage (MA) and Part D programs for calendar year 2012 (77 FR 21432-21577). The rule revised the MA disclosure requirements in 42 CFR 422.111(b) by adding the authority for CMS to require MA organizations to furnish a written explanation of benefits directly to enrollees, in a manner specified by CMS and in a form easily understandable to enrollees, when benefits are provided under Part 422. The collection instrument that requires OMB approval concerns the disclosure requirements in paragraph 42 CFR 422.111(b)(12). This information collection request would require MA organizations to furnish directly to enrollees, in the manner specified by CMS and in a form easily understandable to such enrollees, a written explanation of benefits, when benefits are provided under Part 422. Form Number: CMS-10453 (OCN: 0938-New); Frequency: On occasion; Affected Public: Private Sector—Business or other for-profits. Number of Respondents: 564. Number of Responses: 2,256. Total Annual Hours: 101,520. (For policy questions regarding this collection contact Chris McClintick at 410-786-4682. For all other issues call 410-786-1326.)

To obtain copies of the supporting statement and any related forms for the proposed paperwork collections referenced above, access CMS' Web Site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by January 25, 2013:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number _____, Room C4-26-05, 7500 Security Boulevard, Baltimore, Maryland 21244-1850.

Dated: November 19, 2012.
Martique Jones,
Director, Regulations Development Group, Division B, Office of Strategic Operations and Regulatory Affairs.

[FR Doc. 2012-28570 Filed 11-23-12; 8:45 am]

BILLING CODE 4120-01-P